ENVIRONMENTAL PROTECTION AGENCY

[FRL-6852-3]

National Drinking Water Advisory Council Contaminant Candidate List and 6-Year Review of Existing Regulations Working Group; Notice of Open Meeting

AGENCY: . Environmental Protection Agency.

ACTION: Notice.

Under Section 10(a)(2) of Public Law 92-423, “The Federal Advisory Committee Act,” notice is hereby given that a meeting of the Contaminant Candidate List (CCL) Regulatory Determination and 6-Year Review of Existing Regulation Working Group of the National Drinking Water Advisory Council established under the Safe Drinking Water Act, as amended (42 U.S.C. S300f et seq.), will be held on September 25-26, 2000, from 8:30-5:00 pm ET (approximately), at RESOLVE, 1255 23rd Street, NW., Suite 275, Washington, DC 20037. The meeting will be open to the public to observe and statements will be taken from the public as time allows. Seating is limited.

This is the third meeting to address 6-year review of existing regulations. The major purpose of the meeting is to continue discussions on the development of a protocol for selecting existing National Primary Drinking Water Regulation (NWPDRs) for possible revision. The working group will attempt to finalize the draft framework in order to provide specific recommendations to the full NDWAC by November 2000. If the working group is unable to finalize the protocol at this meeting, an additional meeting may be scheduled for later in the year.

For more information, contact Tara Cameron, Designated Federal Officer, Contaminant Candidate List and Regulatory Determination and 6-Year Review of Existing Regulations Working Group, U.S. EPA (4607), Office of Ground Water and Drinking Water, 1200 Pennsylvania Avenue, NW., Washington, DC 20460. The telephone number is 202-260-3702, fax 202-260-3762, and e-mail cameron.tara@epa.gov.

Dated: August 8, 2000.
Charlene E. Shaw,
Designated Federal Officer, National Drinking Water Advisory Council.

[FR Doc. 00-20808 Filed 8-15-00; 8:45 am]

BILLING CODE 6560-50-P